DEPARTMENT OF ENERGY

Federal Energy Regulatory Commission

[Project No. 13102-003]

Birch Power Company; Notice of Application Ready for Environmental Analysis and Soliciting Comments, Recommendations, Terms and Conditions, and Prescriptions

Take notice that the following hydroelectric application has been filed with the Commission and is available for public inspection.

a. Type of Application: Original License (Major Project).

b. Project No.: 13102-003.

c. Date filed: July 2, 2013.

d. Applicant: Birch Power Company.

e. Name of Project: Demopolis Lock and Dam Hydroelectric Project.

f. Location: At the U.S. Army Corps of Engineers' (Corps) Demopolis Lock and Dam, on the Tombigbee River, west of the city of Demopolis in Marengo and Sumter Counties, Alabama. The proposed project would occupy approximately 23 acres of federal land administered by the Corps.

g. Filed Pursuant to: Federal Power Act 16 U.S.C. 791 (a)-825(r).

h. Applicant Contact: Nicholas E. Josten, GeoSense, 2742 Saint Charles Ave, Idaho Falls, ID 83404, (208) 528-6152.

i. FERC Contact: Adam Peer (202) 502-8449, adam.peer@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13102-003.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The proposed project would utilize the existing Corps' Demopolis Lock and Dam and Reservoir, and would consist of the following new facilities: (1) A 900-foot-long excavated intake channel (headrace); (2) two 60-foot-long by 32-foot-wide trash racks with 2.5-inch bar spacing; (3) a 201-foot-long by 80-foot-wide powerhouse containing two 24-megawatt (MW) Kaplan turbines, having a total installed capacity of 48 MW; (4) a substation; (5) a forebay oxygen diffuser line system to enhance dissolved oxygen; (6) a 2,000-foot-long excavated tailrace channel; (7) a 1,700-foot-long retaining wall along the north side of tailrace channel; (8) a 4.4-mile-long, 115-kilovolt transmission line; and (9) appurtenant facilities. The average annual generation would be about 213,000 megawatt-hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. A license applicant must file no later than 60 days following the date of issuance of this notice: (1) A copy of the water quality certification; (2) a copy of the request for certification, including proof of the date on which the certifying agency received the request; or (3) evidence of waiver of water quality certification.

Dated: June 15, 2016.
Kimberly D. Bose,
Secretary.

[FR Doc. 2016-14599 Filed 6-20-16; 8:45 am]

BILLING CODE 6717-01-P